DEPARTMENT OF TRANSPORTATION

National Highway Traffic Safety Administration

49 CFR Part 571

[Docket No. NHTSA-2015-0045]

RIN 2127-AL01

Federal Motor Vehicle Safety Standards; Correction

AGENCY: National Highway Traffic Safety Administration (NHTSA), DOT.

ACTION: Proposed rule; correction.

SUMMARY: This document corrects the preamble to a proposed rule published in the Federal Register of May 21, 2015, regarding Federal Motor Vehicle Safety Standard for Motorcycle Helmets. This correction removes language relating to the incorporation by reference of certain publications that was inadvertently and inappropriately included in the preamble to the proposed rule.

DATES: October 1, 2015.

FOR FURTHER INFORMATION CONTACT: Mr. Otto Matheke, Office of the Chief Counsel (Telephone: 202-366-5253) (Fax: 202-366-3820).

SUPPLEMENTARY INFORMATION:

Correction

In proposed rule FR Doc. 2015-11756 beginning on page 29458 in the issue of May 21, 2015, make the following correction in the Dates section. On page 29458 in the 2nd column, remove at the end of the second paragraph the following:

“The incorporation by reference of certain publications listed in the proposed rule is approved by the Director of the Federal Register as of May 22, 2017.”

Dated: September 25, 2015.
Frank S. Borris II,
Acting Associate Administrator for Enforcement.

[FR Doc. 2015-24918 Filed 9-30-15; 8:45 am]

BILLING CODE 4910-59-P